FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010714-038.

Title: Trans-Atlantic American Flag Liner Operators Agreement.

Parties: A.P. Moller-Maersk A/S; American President Lines, Ltd.; American Roll-On Roll-Off Carrier, LLC; Farrell Lines Incorporated; CP Ships (USA) LLC; and P&O Nedlloyd Limited.

Filing Party: Howard A. Levy, Esq.; 80 Wall Street, Suite 1117; New York, NY 10005.

Synopsis: The amendment changes the name of Lykes Lines Ltd. LLC to CP Ships (USA) LLC.

Agreement No.: 011660-004.

Title: Administrative Housekeeping Agreement.

Parties: A.P. Moller-Maersk A/S; American President Lines, Ltd.; American Roll-On Roll-Off Carriers, LLC; and Farrell Lines Incorporated; CP Ships (USA) LLC and P&O Nedlloyd Limited.

Filing Party: Howard A. Levy, Esq.; 80 Wall Street, Suite 1117; New York, NY 10005.

Synopsis: The amendment changes the name of Lykes Lines Ltd, LLC to CP Ships (USA) LLC.

By Order of the Federal Maritime Commission.
Dated: May 6, 2005.
Bryant L VanBrakle,
Secretary.

[FR Doc. 05-9415 Filed 5-10-05; 8:45 am]

BILLING CODE 6730-01-P